DEPARTMENT OF ENERGY

Notice of Intent To Prepare an Environmental Impact Statement for Retrieval, Treatment, and Disposal of Tank Waste and Closure of Single-Shell Tanks at the Hanford Site, Richland, WA

AGENCY: Department of Energy.

ACTION: Notice of intent.

SUMMARY: The U.S. Department of Energy (DOE) intends to prepare an environmental impact statement (EIS) on the proposed retrieval, treatment, and disposal of the waste being managed in the high-level waste (HLW) tank farms at the Hanford Site near Richland, Washington, and closure of the 149 single-shell tanks (SSTs) and associated facilities in the HLW tank farms. The HLW tanks contain both hazardous and radioactive waste (mixed waste).

This EIS will be prepared in accordance with the National Environmental Policy Act (NEPA) and its implementing regulations (40 CFR parts 1500-1508 and 10 CFR part 1021). DOE's proposed action is to remove waste from the tanks to the extent that retrieval is technically and economically feasible, treat the waste through vitrification in the planned Waste Treatment Plant (WTP) and/or one of several other treatment processes such as bulk vitrification, grout, steam reforming and sulfate removal, depending on waste type and waste characteristics. DOE proposes to package the waste for offsite shipment and disposal or onsite disposal. The tanks would be filled with materials to immobilize the residual waste and prevent long-term degradation of the tanks and discourage intruder access.

The 149 underground SSTs and 28 underground double-shell tanks (DSTs) are grouped in 18 tank farms that are regulated under the Resource Conservation and Recovery Act of 1976 (RCRA) as treatment, storage, and disposal units that, for closure purposes, include tanks, associated ancillary equipment, and contaminated soils. DOE proposes to close the tanks in accordance with the Hanford Federal Facility Agreement and Consent Order (also known as the Tri-Party Agreement or TPA). DOE invites public comments on the proposed scope of this EIS.

DATES: The public scoping period begins with the publication of this Notice and concludes March 10, 2003. DOE invites Federal agencies, Native American tribes, State and local governments, and members of the public to comment on the scope of this EIS. DOE will consider fully all comments received by the close of the scoping period and will consider comments received after that date to the extent practicable.

Public meetings will be held during the scoping period. Meetings will be held in Seattle and Richland, Washington and in Portland and Hood River, Oregon on the following dates.

Richland: February 5, 2003.

Hood River: February 18, 2003.

Portland: February 19, 2003.

Seattle: February 20, 2003.

At least 15 days prior to the meetings, DOE will notify the public of the meeting locations and times and will provide additional information about each meeting through press releases, advertisements, mailings and other methods of encouraging public participation in the NEPA process. At these scoping meetings, DOE will provide information about the tank waste program and alternatives for retrieving, treating, and disposing of the waste, along with alternatives for closing the SSTs. The meetings will provide opportunities to comment orally or in writing on the EIS scope, including the alternatives and issues that DOE should consider in the EIS.

ADDRESSES: DOE invites public comment on the proposed scope of this EIS. Comments may be submitted by mail, electronic mail, fax, or voice mail and addressed as follows: Mary Beth Burandt, Document Manager, DOE Office of River Protection, U.S. Department of Energy, Post Office Box 450, Mail Stop H6-60, Richland, Washington, 99352, Attention: Tank Retrieval and Closure EIS, Electronic mail: Mary_E_Burandt@rl.gov, Fax: (509) 376-2002, Telephone and voice mail: (509) 373-9160.

FOR FURTHER INFORMATION CONTACT: To request information about this EIS and the public scoping workshops or to be placed on the EIS distribution list, use any of the methods identified in ADDRESSES above. For general information about the DOE NEPA process, contact: Carol M. Borgstrom, Director, Office of NEPA Policy and Compliance (EH-42), U.S. Department of Energy, 1000 Independence Avenue, SW, Washington, DC, 20585-0119, Fax: (202) 586-7031, Telephone: (202) 586-4600, Voice mail: (800) 472-2756.

SUPPLEMENTARY INFORMATION

Background

The Hanford Site defense activities related to nuclear weapons production created a wide variety of waste. Over 50 million gallons of waste are presently stored in the HLW tank farms, which are located in the 200 Area of the Site. The waste is stored in 149 underground SSTs (ranging in capacity from approximately 55,000 to 1 million gallons) and 28 underground DSTs (ranging in capacity from approximately one to 1.16 million gallons) grouped in 18 tank farms, and approximately 60 smaller miscellaneous underground storage tanks. This waste has been processed and transferred between tanks, and as a result, the chemical, physical (i.e., liquid, solid and sludge) and radiological characteristics of the waste vary greatly among and within individual tanks. In addition, the tank waste contains chemicals or has characteristics classified as hazardous waste under RCRA regulations (40 CFR Parts 260-268 and Parts 270-272) and as dangerous waste under the Washington Administrative Code “Dangerous Waste Regulations” (WAC 173-303).

In 1996, DOE issued the Tank Waste Remediation System (TWRS) EIS (DOE/EIS-0189), which included analyses of alternatives for retrieving and treating (e.g., immobilizing) the waste stored in the tank farms. Because sufficient data were not available to evaluate a range of closure actions, tank system closure alternatives were not evaluated in the TWRS EIS. Among the uncertainties were data regarding past leak losses from the SSTs and how retrieval technology would perform to meet retrieval objectives.

In 1997, DOE issued its Record of Decision (ROD, 62 FR 8693, February 26) in which DOE decided that it would proceed with tank waste retrieval and treatment. In the ROD and subsequent supplemental analyses, DOE acknowledged that there were substantial technical uncertainties that required resolution. Nevertheless, to make progress while resolving the technical uncertainties, DOE decided to implement waste treatment using a phased approach as identified in the TWRS ROD. During the initial phase (Phase I), DOE planned to design, construct and operate demonstration-scale waste treatment facilities. Following the demonstration phase, DOE would construct full-scale facilities to treat the remaining tank waste (Phase II).

DOE's decision in the TWRS ROD was consistent with modifications to the Tri-Party Agreement contained in the M-62, “Complete Pretreatment, Processing and Vitrification of Hanford High-level (HLW) and Low-activity (LAW) Tank Wastes” series of milestones. Accordingly, DOE proceeded with plans to design, construct, and operate facilities that would separate waste into high-level and low-activity waste streams, vitrify the high-level waste stream and vitrify or similarly immobilize the LAW stream. These facilities are now under construction and are collectively referred to as the “Waste Treatment Plant” or WTP.

DOE's strategy for retrieving, treating and disposing of the tank waste and closing the tank farms has continued to evolve, based on information becoming available since the TWRS ROD was issued. New information and proposed changes to DOE's strategy include the following:

• Design of and preliminary performance projections for the WTP support DOE's proposal to extend operations beyond the original plan to operate the WTP for a ten-year period and to enhance throughput compared to facilities planned for in the 1997 ROD.

• New information indicates that deployment of large-scale treatment facilities in approximately 2012 to immobilize waste not processed by the WTP currently under construction, as identified in the TWRS ROD, may be prohibitively expensive (DOE/EIS-0189-SA-3).

• Under DOE Order 435.1 (Radioactive Waste Management), as applicable, DOE may determine that some tank wastes should be managed as low-level waste (LLW) and transuranic (TRU) waste, which may result in changes in how DOE may treat and dispose of portions of the SST and DST wastes from the HLW tank farms.

• DOE wants to consider non-vitrification treatment technologies for LAW and LLW, if these wastes could be immobilized and disposed of onsite or offsite, while providing protection to the human environment comparable to LAW and LLW immobilized by vitrification.

In developing its Performance Management Plan for the Accelerated Cleanup of the Hanford Site (PMP, DOE/RL-2000-47, August 2002), DOE stated its intent to meet its commitments under the Tri-Party Agreement, and identified its plan to complete tank waste retrieval, treatment and disposal by 2028, and to close all of the tanks and associated facilities, including the WTP, by 2033. DOE's current plans call for closing all of the SSTs by 2028.

DOE stated in the PMP that to achieve these objectives, increased capacity will be needed for the WTP, along with additional treatment capacity provided by other waste immobilization technologies, referred to herein as “supplemental” technologies (bulk vitrification, containerized grout, steam reforming, or sulfate removal are examples). Also in the PMP and in the Supplement Analysis for the Tank Waste Remediation System (DOE/EIS-0189-SA3, 2001), DOE concluded that its evolving strategy for treating and disposing of the tank wastes by 2028 and closing the SSTs by 2028 requires NEPA analysis of proposed tank waste retrieval, treatment and disposal, and proposed tank closure actions.

Further, under the TPA Milestone M-45, “Complete Closure of All Single-Shell Tank (SST) Farms,” DOE and the Washington State Department of Ecology (Ecology) have identified a process to start discussing how SST closure would occur. An important part of the process DOE and Ecology have defined for closing tank systems is compliance with Washington State Dangerous Waste regulations that require approval of a closure plan and modification of the Hanford Site Dangerous Waste Permit. Before Ecology can approve either a closure plan or modification of DOE's permit, the State of Washington must fulfill its State Environmental Policy Act (SEPA) requirements. As SEPA is very similar to NEPA, Ecology can adopt a NEPA document if it determines that the document is sufficient to meet SEPA requirements. Ecology has agreed to be a cooperating agency in preparing this EIS.

Need for Action

To meet its commitments under the Tri-Party Agreement and implement its plans to close the tank systems and associated facilities in a timely manner to reduce existing and potential future risk to the public, site workers, and the environment, DOE needs to complete waste retrieval, treatment and disposal of the waste from the SST and DST systems by 2028 and close all SST systems by 2028.

Although DOE is addressing safety and environmental issues posed by tank wastes to minimize current potential risks to human health and the environment, DOE must also implement long-term actions to safely manage and dispose of waste from the tank waste systems, including waste associated with inactive miscellaneous underground storage tanks, and close the SST systems to reduce permanently the potential risk to human health and the environment. These long-term actions also are needed to ensure compliance with applicable Federal requirements regulating the management and disposal of radioactive waste, as well as Federal and Washington State requirements regulating hazardous and mixed waste.

Proposed Action

DOE proposes to retrieve waste from the 149 SST and 28 DST systems and close the SST tank farms in a manner that complies with Federal and Washington State requirements and protects the human environment. (Closure of the DSTs and closure of the WTP are not part of the proposed action because they are active facilities needed to complete waste treatment. Closure of the DSTs and WTP would be addressed at a later date, after appropriate NEPA analysis.) DOE proposes to immobilize the retrieved waste in the WTP and through supplemental treatment technologies such as bulk vitrification, grout, steam reforming and sulfate removal, and to package the immobilized waste for offsite shipment and disposal in licensed and/or permitted facilities or disposal onsite. DOE proposes to close the SST farms (including tanks, ancillary equipment and soils) within the tank farm area by 2028. The tanks would be filled with materials to immobilize the residual waste and prevent long-term degradation of the tanks and discourage intruder access. Associated support buildings, structures, laboratories, and the treatment facilities would be decontaminated and decommissioned in a cost-effective, legally compliant, and environmentally sound manner. Under the proposed action, DOE would use existing, modified, or, if required, new systems to assure capability to store and manage waste during retrieval and treatment.

Background on Development of Alternatives

The proposed action could result in changes to DOE's tank waste management program with respect to waste storage, waste retrieval, waste treatment, waste disposal, and tank farm closure at the Hanford Site. These key variables were evaluated to develop the range of reasonable alternatives identified below. In terms of waste storage, the EIS would analyze the use of the existing waste storage systems and evaluate the need for new storage systems. With regard to waste retrieval, DOE would evaluate a range of timing of retrieval and the technologies used, from past-practice sluicing as analyzed in the TWRS EIS to dry retrieval. Treatment and disposal alternatives for portions of the SST and DST waste would be evaluated based on some volume of the waste being classified as LLW or TRU waste pursuant to DOE Order 435.1. The waste identified as LLW could be treated and packaged for onsite or offsite disposal. The waste identified as TRU waste could be treated and packaged for transport and disposal at the Waste Isolation Pilot Plant (WIPP) near Carlsbad, New Mexico.

Unless a specific alternative identifies a waste type as LLW and/or TRU waste, the waste would be analyzed as HLW or LAW for the purposes of treatment and disposal. The alternatives for waste treatment include: 1) Treating all wastes via an enhanced WTP as vitrified waste; 2) treating HLW via the WTP and LAW via WTP or supplemental treatments; or 3) treating the waste as stated in #2 and/ or supplemental treatment for LLW and TRU waste in the tank farms, in which case some waste would not be processed through the WTP. The options for waste disposal include disposing of the waste onsite using existing or new facilities, disposing of the waste at offsite government facilities (e.g., a geological repository, WIPP, DOE's Nevada Test Site) or using onsite and offsite commercial facilities (such as Envirocare in Utah) for disposal of Hanford waste. Alternatives for tank closure would be evaluated based on broad closure strategies including clean closure (removal of the tanks, ancillary facilities, and contaminated soils) and landfill closure (residual waste left in place and post closure care).

Proposed Alternatives

Each of the six alternatives contains a waste storage, retrieval, treatment and disposal component. Alternatives 3 through 6 also include a tank closure component. The main differences among the alternatives include the extent of waste retrieval, the waste treatment and disposal approach, the tank closure approach, and timing to complete the necessary activities.

1. No Action

The Council on Environmental Quality NEPA Regulations (40 CFR parts 1500-1508), and the DOE NEPA Regulations (10 CFR part 1021) require analysis of a No Action alternative.

Storage: DOE would continue current waste management operations using existing storage facilities. Immobilized (i.e., vitrified) High-level Waste (IHLW) would be stored onsite pending disposal at a geologic repository. Once WTP operations are completed, all tank waste system storage (SSTs and DSTs), treatment, and disposal facilities at the Hanford Site would be placed in a stand-by operational condition.

Retrieval: Waste would be retrieved to the extent required to provide waste feed to the WTP using currently available liquid-based retrieval and leak detection technologies (approximately 25-50% of the total waste volume would be retrieved).

Treatment: No new vitrification or treatment capacity beyond that anticipated in the WTP would be deployed. However, the WTP would be modified within parameters provided for in the TWRS ROD to increase throughput. The WTP would continue to operate until its design life ends in 2046.

Disposal: The residual waste in tanks and the waste remaining in tanks that had not been retrieved (approximately 50 to 75% of the total waste volume) would remain in the tank farm indefinitely. Immobilized Low Activity Waste (ILAW) (by vitrification) would be disposed of onsite. IHLW would be stored onsite pending disposal at a geological repository. For purposes of analysis, administrative control of the tank farms would end following a 100-year period.

Closure: Tank closure would not be addressed; under this alternative, some waste would be left in the tanks indefinitely.

2. Implement the 1997 Record of Decision (With Modifications)

This alternative would continue implementation of decisions made in the TWRS ROD and as considered in three supplement analyses completed through 2001. (See “RELATED NEPA DECISIONS AND DOCUMENTS” below for references.) Under these supplement analyses, DOE concluded that changes in the design and operation of the WTP, as defined in its contracts and program plans, were within the bounds of analysis of environmental impacts in the TWRS EIS. Among the key modifications that would occur under this alternative are: (1) Implementing the initial phase of waste treatment with one ILAW facility rather than two, (2) expanding the design capacity of the ILAW facility from 20 metric tons of glass per day to 30 metric tons of glass per day, and (3) extending the design life of the Phase I facilities from 10 years to 40 years. Under this alternative, no new actions would be taken beyond those previously described in the TWRS ROD and supplement analyses regarding the tank waste.

Storage: DOE would continue current waste management operations using existing storage facilities as described under No Action.

Retrieval: Waste would be retrieved to the Tri-Party Agreement goal (i.e., residual waste would not exceed 360 cubic feet for 100 series tanks or 36 cubic feet for 200 series tanks, which would correspond to 99% retrieval) using currently available liquid-based retrieval and leak detection systems.

Treatment: The existing WTP would be modified to enhance throughput and supplemented with additional vitrification capacity, as needed, to complete waste treatment by 2028. Under this alternative, all waste retrieved from tanks (approximately 99%) would be vitrified.

Disposal: Retrieved and treated waste would be disposed of onsite (ILAW) or stored onsite pending disposal at a geologic repository (IHLW). Once operations are completed, all tank waste system waste storage, treatment, and disposal facilities at the Hanford Site would be placed in a stand-by operational condition. The residual waste would remain in the tank farm indefinitely. For purposes of analysis, DOE assumes under this alternative that it would cease to maintain administrative control after a 100-year period.

Closure: Tank closure would not be addressed under this alternative. Some waste would be left in the tanks indefinitely.

3.0 Landfill Closure of Tank Farms/Onsite and Offsite Waste Disposal

Storage: DOE would continue current waste management operations using existing storage facilities.

Retrieval: Waste would be retrieved to the Tri-Party Agreement goal (i.e., residual waste would not exceed 360 cubic feet for 100 series tanks or 36 cubic feet for 200 series tanks, which would correspond to 99% retrieval) using currently available liquid-based retrieval and leak detection systems.

Treatment: Retrieved waste would be treated with the WTP capacity based on enhanced and/or modified performance of operating systems (e.g., modifications to melters to increase throughput). WTP capacity would be supplemented with additional waste treatment capacity to immobilize LAW using a non-vitrification technology. New non-vitrification supplemental treatment capacity would be developed external to the WTP to immobilize a portion of the tank waste that would be designated as LLW pursuant to DOE Order 435.1 and/or prepare a portion of the tank waste that would be designated as TRU waste for disposal. Waste treatment under this alternative would be completed in 2028 and all SST tank systems would be closed by 2028.

Disposal: ILAW immobilized via the WTP would be disposed of onsite or at offsite commercial (e.g., U.S. Ecology of Washington or Envirocare of Utah) or DOE facilities (Nevada Test Site). IHLW would be stored onsite pending disposal at a national geologic repository. LLW immobilized external to the WTP would be disposed of onsite or at offsite commercial or DOE facilities. TRU waste would be packaged and stored onsite in an existing or new facility pending disposal at the Waste Isolation Pilot Plant (WIPP).

Closure: As operations are completed, SST waste system, waste storage, treatment and disposal facilities at the Hanford Site would be closed as a RCRA landfill unit under Dangerous Waste Regulations under WAC 173-303 and DOE Order 435.1, as applicable, or decommissioned (waste treatment facilities under DOE Order 430.1A). The tanks would be filled with materials to immobilize the residual waste and prevent long-term degradation of the tanks and discourage intruder access. Tanks, ancillary equipment, and contaminated soils would be remediated and remain in place and the closed tank systems would be covered with an engineered barrier that exceeds RCRA landfill requirements and is the more protective of the landfill options being evaluated (i.e., Hanford barrier).

The main differences between this alternative and other alternatives involve: 1) Using a more robust barrier for closure of tank systems that would provide longer term protection from contaminant releases from closed tank systems and limit intrusion into the closed system compared to the barrier evaluated under Alternatives 5 and 6 (tanks would not be closed under Alternatives 1 and 2, thus no barriers would be used); and 2) Treatment and disposal of treated waste would be the same for Alternatives 3 through 5 allowing for a comparison of the impacts associated with deployment of systems to treat and dispose of transuranic waste (Alternatives 3 through 5) to treatment of waste via the WTP and subsequent management as ILAW and IHLW (Alternatives 2 and 6).

4.0 Clean Closure of Tank Farms/Onsite and Offsite Waste Disposal

Storage: DOE would continue current waste management operations using existing storage facilities that would be modified, as needed, to support minimizing liquid losses from SSTs and accelerating SST waste retrieval into safer storage pending retrieval for treatment.

Retrieval: Waste would be retrieved using multiple waste retrieval campaigns using various retrieval technologies (e.g., confined sluicing, crawlers), to the extent needed to support clean closure requirements (i.e., 0.1% residual in the tanks or 99.9% waste retrieved from tanks) using liquid and non-liquid retrieval and enhanced in-tank and/or ex-tank leak detection systems.

Treatment: Retrieved waste would be treated with the WTP capacity based on enhanced and/or modified performance of operating systems (see Alternative 3). New alternative treatment capacity to immobilize LLW (e.g., bulk vitrification, containerized grout, steam reforming, sulfate removal) and/or prepare TRU waste for disposition would be developed external to the WTP. Waste treatment under this alternative would be completed in 2028 and all SST tank systems would be closed by 2028.

Disposal: LAW immobilized via the WTP would be disposed of onsite or at offsite commercial or DOE facilities (see Alternative 3). IHLW would be stored onsite pending disposal at a national geologic repository. LLW immobilized external to the WTP would be disposed of onsite or at offsite commercial or DOE facilities (See Alternative 3). TRU waste would be retrieved from tanks, packaged in a new facility, and stored onsite in existing or new storage facilities pending shipment to and disposal at the WIPP.

Closure: Clean closure reflects minimal residual waste in tanks and ancillary equipment, and contaminated soils remediated in place and/or removed from the tank system to be treated and disposed of in accordance with RCRA requirements. As operations are completed, all SST system storage, treatment, and disposal facilities at the Hanford Site would be closed. Waste storage and disposal facilities would be closed in a manner that supported future use on an unrestricted basis and that did not require post-closure care.

The main differences between this alternative and the other alternatives are: 1) The greatest amount of waste is retrieved from tanks based on multiple technology deployments; and 2) tank systems would be closed to meet clean closure standards. Treatment and disposal of treated waste would be the same for Alternatives 3 through 5, allowing a comparison of the impacts associated with deployment of systems to treat and dispose of TRU waste (Alternatives 3 through 5) to treatment of TRU waste via the waste treatment plant (Alternatives 2 and 6).

5.0 Accelerated Landfill Closure/Onsite and Offsite Waste Disposal

Storage: DOE would continue current waste management operations using existing storage facilities that would be modified or supplemented with new waste storage facilities, to support actions regarding near-term acceleration of tank waste retrieval and treatment. Under this alternative, some SSTs would be retrieved and closed by 2006, exceeding the existing TPA M-45 commitments.

Retrieval: Waste would be retrieved to the Tri-Party Agreement goal to the extent feasible using currently available liquid-based retrieval and leak detection systems (residual waste would correspond to 90-99% retrieval).

Treatment: Waste treatment would be completed no later than 2024 and SST systems would be closed by 2028. Retrieved waste would be treated with the WTP capacity based on enhanced and/or modified performance of operating systems, as described under Alternative 2. WTP capacity would be supplemented with new treatment capacity to immobilize LLW. New treatment capacity to immobilize LLW and/or prepare TRU waste for disposition would be developed external to the WTP.

Disposal: LAW immobilized via the WTP would be disposed of onsite or at offsite commercial or DOE facilities. IHLW would be stored onsite pending disposal at the proposed national geologic repository. LLW immobilized external to the WTP would be disposed of onsite or at offsite commercial or DOE facilities. Transuranic waste would be packaged and stored onsite pending disposal at the WIPP.

Closure: As operations are completed, SST tank waste system waste storage, treatment, and disposal facilities would be closed as a RCRA landfill unit under Dangerous Waste Regulations under WAC 173-303 and DOE Order 435.1, or decommissioned (waste treatment facilities under DOE Order 430.1A). Waste storage and disposal facilities would be closed as RCRA landfill units under applicable state Dangerous Waste Regulations (WAC 173-303). The tanks would be filled with materials to immobilize the residual waste and prevent long-term degradation of the tanks and discourage intruder access. Tank systems (tanks, ancillary equipment, and soils) would be closed in place and would be covered with a modified RCRA barrier (i.e., a barrier with performance characteristics that exceed RCRA requirements for disposal of hazardous waste).

The main difference between this alternative and the other alternatives are (1) completion of some SST closure actions by 2006, completion of all waste treatment by 2024, and closure of all SST systems by 2028 in contrast to Alternatives 2, 3 and 6, which would complete waste treatment in 2028 and SST tank systems closure in 2028 and; (2) no remediation of ancillary equipment and contaminated soil, allowing a comparison with the more extensive remediation analyzed under Alternative 3. Another main difference between this alternative and Alternative 3 is the use of a modified RCRA barrier. Treatment and disposal of treated waste would be the same for Alternatives 3 through 5, allowing for a comparison of the impacts associated with deployment of systems to treat and dispose of transuranic waste (Alternatives 3 through 5) to treatment of transuranic waste via the WTP (Alternatives 2 and 6).

6.0 Landfill Closure/Onsite and Offsite Waste Disposal

Storage: DOE would continue current waste management operations using existing storage facilities that would be modified, as needed, to support SST waste retrieval and treatment.

Retrieval: Waste would be retrieved to the Tri-Party Agreement goal (i.e., residual waste would not exceed 360 cubic feet for 100 series tanks or 36 cubic feet for 200 series tanks, which corresponds to retrieval of 99%) using liquid and non-liquid based retrieval and enhanced leak detection systems.

Treatment: Retrieved waste would be treated with the WTP capacity based on enhanced and/or modified performance of operating systems. Supplemental treatment technologies would be used to immobilize LLW. New non-vitrification treatment capacity to immobilize LLW for disposition would be developed external to the WTP. Waste treatment under this alternative would be completed in 2028, and all SST systems would be closed by 2028.

Disposal: ILAW immobilized via the WTP would be disposed of onsite or at offsite commercial or DOE facilities. IHLW would be stored onsite pending disposal at a national geologic repository. LLW immobilized external to the WTP would be disposed of onsite or at offsite commercial or DOE facilities.

Closure: As operations are completed, all tank waste system waste storage, treatment, and disposal facilities at the Hanford Site would be closed (tank farm systems) or decommissioned (waste treatment facilities). The tanks would be filled with materials to immobilize the residual waste and prevent long-term degradation of the tanks and discourage intruder access. Waste storage and disposal facilities would be closed as RCRA landfill units under applicable state Dangerous Waste Regulations (WAC 173-303). Residual waste in tanks, ancillary equipment, and contaminated soils would be remediated in place as needed in accordance with RCRA requirements, and the closed tank systems would be covered with a modified RCRA barrier.

The main difference between this alternative and the other alternatives is that under this alternative there would not be a separate TRU waste stream (Alternatives 3 through 5). As with Alternative 2, waste would be treated in the WTP and subsequently managed as either ILAW or IHLW.

Preliminary Identification of EIS Issues: The following issues have been tentatively identified for analysis in the EIS. The list is presented to facilitate comment on the scope of the EIS; it is not intended to be all-inclusive or to predetermine the potential impacts of any of the alternatives.

• Effects on the public and onsite workers from releases of radiological and nonradiological materials during normal operations and reasonably foreseeable accidents.

• Long-term risks to human populations resulting from waste disposal and residual tank system wastes.

• Effects on air and water quality from normal operations and reasonably foreseeable accidents, including long-term impacts on groundwater.

• Cumulative effects, including impacts from other past, present, and reasonably foreseeable actions at the Hanford Site.

• Effects on endangered species, archaeological/cultural/historical sites, floodplains and wetlands, and priority habitat.

• Effects from onsite and offsite transportation and from reasonably foreseeable transportation accidents.

• Socioeconomic impacts on surrounding communities.

• Disproportionately high and adverse effects on low-income and minority populations (Environmental Justice).

• Unavoidable adverse environmental effects.

• Short-term uses of the environment versus long-term productivity.

• Potential irretrievable and irreversible commitment of resources.

• The consumption of natural resources and energy, including water, natural gas, and electricity.

• Pollution prevention, waste minimization, and potential mitigative measures.

Related NEPA Decisions and Documents: The following lists DOE other NEPA documents that are related to this proposed Hanford Site Tank Retrieval and Closure EIS.

45 FR 46155, 1980, “Double-Shell Tanks for Defense High-Level Radioactive Waste Storage, Hanford Site, Richland, Washington; Record of Decision,” Federal Register.

53 FR 12449, 1988, “Disposal of Hanford Defense High-Level Transuranic, and Tank Wastes, Hanford Site, Richland, Washington; Record of Decision,” Federal Register.

60 FR 28680, 1995, “Programmatic Spent Nuclear Fuel Management and Idaho National Engineering Laboratory Environmental Restoration and Waste Management Program, Part III; Record of Decision,” Federal Register.

60 FR 54221, 1995, “Final Environmental Impact Statement for the Safe Interim Storage of Hanford Tank Wastes at the Hanford Site, Richland, WA; Record of Decision,” Federal Register.

60 FR 61687, 1995, “Record of Decision Safe Interim Storage of Hanford Tank Wastes, Hanford Site, Richland, Washington,” Federal Register.

61 FR 3922, 1996, “Availability of the Final Environmental Impact Statement for Management of Spent Nuclear Fuel from the K Basins at the Hanford Site, Richland, WA; Notice of Availability of Final Environmental Impact Statement,” Federal Register.

61 FR 10736, 1996, “Management of Spent Nuclear Fuel from the K Basins at the Hanford Site, Richland, WA. ACTION: Notice of Record of Decision,” Federal Register.

62 FR 8693, 1997, “Record of Decision for the Tank Waste Remediation System, Hanford Site, Richland, Washington,” Federal Register.

DOE/EA-0479, 1990, Collecting Crust Samples from Level Detectors in Tank SY-101 at the Hanford Site, U.S. Department of Energy, Richland, Washington.

DOE/EA-0495, 1991, Preparation of Crust Sampling of Tank 241-SY-101, U.S. Department of Energy, Richland, Washington.

DOE/EA-0511, 1991, Characterization of Tank 241-SY-101, U.S. Department of Energy, Richland, Washington.

DOE/EA-0581, 1991, Upgrading of the Ventilation System at the 241-SY Tank Farm, U.S. Department of Energy, Richland, Washington.

DOE/EA-0802, 1992, Tank 241-SY-101 Equipment Installation and Operation to Enhance Tank Safety, U.S. Department of Energy, Richland, Washington.

DOE/EA-0803, 1992, Proposed Pump Mixing Operations to Mitigate Episodic Gas Releases in Tank 241-SY-101, U.S. Department of Energy, Richland, Washington.

DOE/EA-0881, 1993, Tank 241-C-103 Organic Vapor and Liquid Characterization and Supporting Activities, U.S. Department of Energy, Richland, Washington.

DOE/EA-0933, 1995, Tank 241-C-106 Past Practice Sluicing Waste Retrieval, U.S. Department of Energy, Richland, Washington.

DOE/EA-0981, 1995, Solid Waste Retrieval Complex, Enhanced Radioactive and Mixed Waste Storage Facility, U.S. Department of Energy, Richland, Washington.

DOE/EA-1203, 1997, Trench 33 Widening in 218-W-5 Low-Level Burial Ground, U.S. Department of Energy, Richland, Washington.

DOE/EA-1276, 1999, Widening Trench 36 of the 218-E-12B Low-Level Burial Ground, U.S. Department of Energy, Richland, Washington.

DOE/EA-1405, 2002, Transuranic Waste Retrieval from the 218-W-4B and 218-W-4C Low-Level Burial Grounds, Finding of No Significant Impact, U.S. Department of Energy, Richland, Washington.

DOE/EIS-0113, 1987, Final Environmental Impact Statement. Disposal of Hanford Defense High-Level, Transuranic and Tank Wastes Hanford Site Richland, Washington, U.S. Department of Energy, Washington, DC.

DOE/EIS-0189, 1996, Tank Waste Remediation System, Hanford Site, Richland, Washington, Final Environmental Impact Statement, U.S. Department of Energy and Washington State Department of Ecology, Washington, DC.

DOE/EIS-0189-SA1, 1997, Supplement Analysis for the Proposed Upgrades to the Tank Farm Ventilation, Instrumentation, and Electrical Systems under Project W-314 in Support of Tank Farm Restoration and Safe Operations, U.S. Department of Energy, Richland Operations Office, Richland, Washington.

DOE/EIS-0189-SA2, 1998, Supplement Analysis for the Tank Waste Remediation System, U.S. Department of Energy, Washington, DC.

DOE/EIS-0189-SA3, 2001, Supplement Analysis for the Tank Waste Remediation System, U.S. Department of Energy, Washington, DC.

DOE/EIS-0200, 1997, Final Waste Management Programmatic Environmental Impact Statement, U.S. Department of Energy, Washington, DC.

DOE/EIS-0212, 1995, Safe Interim Storage of Hanford's Tank Waste Final Environmental Impact Statement, U.S. Department of Energy, Richland Operations Office, Richland, Washington.

DOE/EIS-0222, 1999, Final Hanford Remedial Action Environmental Impact Statement and Comprehensive Land Use Plan, U.S. Department of Energy, Richland Operations Office, Richland, Washington.

DOE/EIS-0250, 2002, Environmental Impact Statement for a Geologic Repository for the Disposal of Spent Nuclear Fuel and High-Level Radioactive Waste at Yucca Mountain, Nye County, Nevada, U.S. Department of Energy Office of Civilian Radioactive Waste Management, Washington, DC.

DOE/EIS-0286D, 2000, Draft Hanford Site Solid (Radioactive and Hazardous) Waste Program Environmental Impact Statement, U.S. Department of Energy, Richland, Washington.

DOE/EIS-0287, 2002, Idaho High-Level Waste and Facilities Disposition Environmental Impact Statement, U.S. Department of Energy, Washington, DC.

Ecology, 2000, Draft Environmental Impact Statement for Commercial Low-Level Radioactive Waste Disposal Site, Richland, Washington, Washington State Department of Ecology, Olympia, Washington.

Ecology, EPA, and DOE, 1989, Hanford Federal Facility Agreement and Consent Order, as amended, Washington State Department of Ecology, U.S. Environmental Protection Agency, and U.S. Department of Energy, Olympia, Washington.

Issued in Washington, DC on this 3rd day of January, 2003.
Beverly A. Cook,
Assistant Secretary, Environment, Safety and Health.

[FR Doc. 03-318 Filed 1-7-03; 8:45 am]

BILLING CODE 6450-01-P